DEPARTMENT OF COMMERCE

International Trade Administration

[A-201-504]

Porcelain-on-Steel Cookware from Mexico: Final Results of Changed Circumstances Antidumping Duty Administrative Review, Revocation of the Antidumping Duty Order, and Rescission of Administrative Reviews

AGENCY: Import Administration, International Trade Administration, Department of Commerce.

ACTION: Notice of final results of changed circumstances antidumping duty administrative review, revocation of the antidumping duty order, and rescission of antidumping duty administrative reviews.

SUMMARY: In response to a request by the petitioner, Columbian Home Products, LLC, a U.S. producer of subject merchandise and an interested party in this proceeding, on February 14, 2002, the Department of Commerce initiated a changed circumstances review and made a preliminary determination to revoke the antidumping duty order on porcelain-on-steel cookware from Mexico. During the course of this proceeding, we have determined that the producer accounting for all or substantially all of the production of the domestic like product to which the order pertains does not have an interest in maintaining the order. Consequently, we are revoking the order on porcelain-on-steel cookware from Mexico. In addition, we are rescinding the ongoing administrative reviews of this order. These reviews cover the periods December 1, 1999, through November 30, 2000, and December 1, 2000, through November 30, 2001.

DATES: April 22, 2002.

FOR FURTHER INFORMATION CONTACT: Rebecca Trainor or Kate Johnson, Office of AD/CVD Enforcement Group I, Office 2, Import Administration, International Trade Administration, U.S. Department of Commerce, 14th Street and Constitution Avenue, NW, Washington, D.C. 20230; telephone: (202) 482-4007 or (202) 482-4929, respectively.

SUPPLEMENTARY INFORMATION:

The Applicable Statute and Regulations:

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to the regulations at 19 CFR part 351 (April 2001).

Background

On January 30, 2002, the petitioner, Columbian Home Products, LLC (Columbian), requested that the Department revoke the antidumping duty order on porcelain-on-steel cookware from Mexico as of December 1, 1995, stating that it no longer has an interest in maintaining this order. Columbian is a domestic interested party and is the successor company to the petitioner in the less-than-fair-value investigation. Columbian stated that it is the only U.S. producer of porcelain-on-steel cookware, and therefore, it accounts for “substantially” all of the production of the domestic like product,” within the meaning of section 782(h)(2) of the Act.

Based on the information submitted by Columbian and its assertions that it accounted for substantially all of the production of the domestic like product and had no interest in maintaining the order, the Department determined that there was sufficient evidence of changed circumstances to warrant a review under section 751(b)(1) of the Act, 19 CFR 351.222(g) and 19 CFR 351.216. Because of the pending administrative reviews, we determined that expedited action was warranted, and we combined the notices of initiation and preliminary results in accordance with 19 CFR 351.221(c)(3)(ii). Consequently, on February 25, 2002, we published a notice of initiation of a changed circumstances review and preliminary results of review with intent to revoke the order and rescind the ongoing administrative reviews. See Porcelain-on-Steel Cookware from Mexico, Initiation and Preliminary Results of Changed Circumstances Antidumping Duty Administrative Review and Notice of Intent to Revoke the Order and to Rescind Administrative Reviews, 67 FR 8523 (Initiation Notice). In the Initiation Notice we allowed interested parties an opportunity to submit comments for consideration in this review.

On March 4, 2002, respondents Cinsa, S.A. de C.V. and Esmaltaciones de Norte America S.A. de C.V. urged the Department to affirm the preliminary results in its Final Results of Changed Circumstances Review.

Scope of Order

The products covered by this order are porcelain-on-steel cookware, including tea kettles, which do not have self-contained electric heating elements. All of the foregoing are constructed of steel and are enameled or glazed with vitreous glasses. This merchandise is currently classifiable under Harmonized Tariff Schedule of the United States (“HTSUS”) subheading 7323.94.00. Kitchenware currently classifiable under HTSUS subheading 7323.94.00.30 is not subject to the order. Although the HTSUS subheadings are provided for convenience and customs purposes, the written description of the scope of this proceeding is dispositive.

Final Results of Changed Circumstances Review and Revocation of the Antidumping Duty Order

Pursuant to section 782(h)(2) of the Act, the Department may revoke an antidumping or countervailing duty order based on a review under section 751(b) of the Act (i.e., a changed circumstances review). Section 751(b)(1) of the Act requires a changed circumstances review to be conducted upon receipt of a request which shows changed circumstances sufficient to warrant a review. 19 CFR 351.222(g) provides that the Department will conduct a changed circumstances review under 19 CFR 351.216, and may revoke an order (in whole or in part), if it determines that producers accounting for substantially all of the production of the domestic like product to which the order (or the part of the order to be revoked) pertains have expressed a lack of interest in the relief provided by the order, in whole or in part, or if other changed circumstances exist sufficient to warrant revocation.

The Department finds that the producer accounting for all of the domestic like product to which the order pertains has expressed a lack of interest in the relief provided by this order, dating back to December 1, 1995. On the facts of this case, sufficient changed circumstances exist to warrant revocation of the order. Therefore, effective December 1, 1995, the Department is revoking the order on porcelain-on-steel cookware from Mexico in whole, pursuant to sections 751(b) and (d) and 782(h) of the Act, as well as 19 CFR 351.216 and 19 CFR 351.222(g).

Rescission of Antidumping Administrative Reviews

On November 13, 2001, the Department published in the Federal Register (66 FR 56799) the preliminary results of the 14th administrative review for the period December 1, 1999, through November 30, 2000. On January 29, 2002, the Department published in the Federal Register (67 FR 4236) a notice of initiation of the 15th administrative review for the period December 1, 2000, through November 30, 2001. Because we are revoking the order for the reason stated above, effective December 1, 1995, we are also rescinding the ongoing administrative reviews of porcelain-on-steel cookware from Mexico pursuant to section 751(d)(3) of the Act.

Instructions to Customs Service

The Department, in accordance with 19 CFR 351.222(g)(4), expects to instruct the Customs Service to terminate the suspension of liquidation and to liquidate, without regard to antidumping duties, all unliquidated entries of porcelain-on-steel cookware from Mexico, entered, or withdrawn from warehouse, for consumption on or after December 1, 1995. We will further instruct the Customs Service to refund with interest any estimated duties collected with respect to unliquidated entries of porcelain-on-steel cookware from Mexico entered, or withdrawn from warehouse, for consumption on or after December 1, 1995, in accordance with section 778 of the Act. The instructions covering the period December 1, 1995, through November 30, 1999, will not be issued until the dismissal of the ongoing litigation with respect to the administrative reviews of porcelain-on-steel cookware from Mexico, pursuant to which entries have been enjoined from liquidation. We will instruct the Customs Service to terminate the suspension of liquidation and to liquidate, without regard to antidumping duties, all unliquidated entries of porcelain-on-steel cookware from Mexico, entered, or withdrawn from warehouse, for consumption during the periods December 1, 1999, through November 30, 2000, and December 1, 2000, through November 30, 2001, upon publication of this notice.

This notice also serves as a reminder to parties subject to administrative protective order (APO) of their responsibility concerning the disposition of proprietary information disclosed under APO in accordance with 19 CFR 351.306. Timely written notification of return/destruction of APO materials or conversion to judicial protective order is hereby requested. Failure to comply with the regulations and the terms of an APO is a sanctionable violation.

This changed circumstances review, revocation of the antidumping duty order, and notice are in accordance with sections 751(b) and (d) and 782(h) of the Act and 19 CFR 351.216(d) and 351.222(g). The rescission of the 1999-2000 and 2000-2001 antidumping duty administrative reviews of porcelain-on-steel cookware from Mexico is in accordance with section 751(d)(3) of the Act.

Dated: April 16, 2002
Faryar Shirzad,
Assistant Secretary for Import Administration.

[FR Doc. 02-9805 Filed 4-19-02; 8:45 am]

BILLING CODE 3510-DS-S